DEPARTMENT OF ENERGY

Federal Energy Regulatory Commission

Combined Notice of Filings #1

August 29, 2005.

Take notice that the Commission received the following electric rate filings.

Docket Numbers: ER97-1781-001.

Applicants: Strategic Power Management Inc.

Description: Strategic Power Management Inc., in compliance with the Commission's order issued 5/31/05 (112 FERC ¶ 61,175 (2005)), submits statement indicating that it is wholly without market power and submits revisions to its market-based rate tariff.

Filed Date: 08/23/2005.

Accession Number: 20050825-0232.

Comment Date: 5 p.m. eastern time on Tuesday, September 13, 2005.

Docket Numbers: ER02-2559-005; ER01-1071-006; ER02-669-006; ER02-2018-006; ER01-2074-006; ER05-222-002; ER00-2391-006; ER98-2494-010; ER00-3068-006; ER05-487-001; ER04-127-003; ER03-34-005; ER98-3511-010; ER02-1903-005; ER99-2917-007; ER03-179-006; ER03-1104-002; ER03-1105-002; ER03-1332-002; ER98-3566-013; ER02-1838-006; ER03-1333-003; ER03-1103-002; ER01-838-006; ER98-3563-010; ER98-3564-010; ER03-1025-003; ER02-2120-004; ER01-1972-006; ER98-2076-009; ER03-155-005; ER03-623-006; ER98-4222-005; ER04-290-001; ER01-1710-007; ER04-187-003; ER05-236-004; ER02-2166-005; ER04-947-004; ER01-2139-008; ER03-1375-002; ER97-3359-009.

Applicants: Backbone Mountain Windpower LLC; Badger Windpower, LLC; Bayswater Peaking Facility, LLC; Blythe Energy, LLC; Calhoun Power Company I, LLC; Diablo Winds, LLC; Doswell Limited Partnership; ESI Vansycle Partners, L.P.; FPL Energy Cape, LLC; FPL Energy Cowboy Wind, LLC; FPL Energy Green Power Wind, LLC; FPL Energy Hancock County Wind, LLC; FPL Energy Maine Hydro LLC; FPL Energy Marcus Hook, L.P.; FPL Energy MH 50, LP; FPL Energy New Mexico Wind, LLC; FPL Energy North Dakota Wind, LLC; FPL Energy North Dakota Wind II, LLC; FPL Energy Oklahoma Wind, LLC; FPL Energy Power Marketing, Inc.; FPL Energy Seabrook, LLC; FPL Energy Sooner Wind, LLC; FPL Energy South Dakota Wind, LLC; FPL Energy Vansycle, LLC; FPL Energy Wyman, LLC; FPL Energy Wyman IV, LLC; FPL Energy Wyoming, LLC; FPLE Rhode Island State Energy, L.P.; Gray County Wind Energy, LLC; Hawkeye Power Partners, LLC; High Winds, LLC; Jamaica Bay Peaking Facility, LLC; Lake Benton Power Partners II, LLC; Meyersdale Windpower LLC; Mill Run Windpower, LLC; North Jersey Energy Associates, L.P.; Northeast Energy Associates, a Limited Partnership; Pennsylvania Windfarms, Inc.; POSDEF Power Company, LP; Somerset Windpower, LLC; Waymart Wind Farm, L.P., and Florida Power & Light Company.

Description: The above-referenced applicants submit revised tariff sheets to reflect a correction to the Market Behavior Rules.

Filed Date: 08/12/2005.

Accession Number: 20050824-0224.

Comment Date: 5 p.m. eastern time on Friday, September 8, 2005.

Docket Numbers: ER04-691-060; EL04-104-057; ER04-106-015.

Applicant: Midwest Independent Transmission System Operator, Inc.

Description: Midwest Independent Transmission System Operator, Inc. submits proposed revisions to its Open Acess Transmission and Energy Markets Tariff, FERC Electric Tariff, Third Revised Volume 1 in compliance with the Commission's Orders issued 6/21/05 (111 FERC ¶ 61,448 (2005)) and 8/6/04 (108 FERC ¶ 61,163 (2004)).

Filed Date: 08/19/2005.

Accession Number: 20050823-0143.

Comment Date: 5 p.m. eastern time on Friday, August 26, 2005.

Docket Number: ER05-1194-001.

Applicant: Yaka Energy LLC.

Description: Yaka Energy LLC submits an Amendment to Petition for Acceptance of Initial Rate Schedule, Waivers, and Blanket Authority filed on 7/5/05 in Docket No. ER005-1194-000.

Filed Date: 08/23/2005.

Accession Number: 20050825-0231.

Comment Date: 5 p.m. eastern time on Tuesday, September 6, 2005.

Docket Number: ER05-1215-002.

Applicant: Wholesale Electric Trading LP.

Description: Wholesale Electric Trading LP submits an amendment to its petition for acceptance of initial rate schedule, waivers and blanket authority filed 7/15/05, as amended on 8/15/05 in Docket Nos. ER05-1215-000 and 001.

Filed Date: 08/24/2005.

Accession Number: 20050825-0230.

Comment Date: 5 p.m. eastern time on Wednesday, September 14, 2005.

Docket Number: ER05-1378-000.

Applicant: American Electric Power Service Company.

Description: American Electric Power Service Corporation, as agent for its affiliate Indiana Michigan Power Company, submits a revision to the Interconnection and Local Delivery Service Agreement No. 1262 between Wabash Valley Power Association and American Electric Power Service Company.

Filed Date: 08/19/2005.

Accession Number: 20050824-0167.

Comment Date: 5 p.m. eastern time on Friday, September 9, 2005.

Docket Number: ER05-1384-000.

Applicant: ISO New England Inc.; Northeast Utilities Service Company.

Description: ISO New England Inc. (ISO-NE) and Northeast Utilities Company, on behalf of its affiliate the Connecticut Light and Power Company (CL&P), submit the executed Standard Large Generator Interconnection Agreement by and among ISO-NE, CL&P and the University of Connecticut.

Filed Date: 08/24/2005.

Accession Number: 20050825-0234.

Comment Date: 5 p.m. eastern time on Wednesday, September 14, 2005.

Docket Number: ER05-1385-000.

Applicant: Idaho Power Company.

Description: Idaho Power Company submits revised tariff sheets to be incorporated into Attachment J to its Open Access Transmission Tariff, FERC Electric Tariff First Revised Volume No. 5.

Filed Date: 08/23/2005.

Accession Number: 20050825-0233.

Comment Date: 5 p.m. eastern time on Tuesday, September 13, 2005.

Docket Number: ER05-1386-000.

Applicant: Central Hudson Gas & Electric Corporation.

Description: Central Hudson Gas & Electric Corporation (Central Hudson) submits Fifth Revised Sheet Nos. 9, 10, 11, & 12 to FERC Rate Schedule No. 202, which set forth the terms and changes for substation service provided by Central Hudson to Consolidated Edison Company of New York, Inc. under the Rock Tavern Substation Agreement.

Filed Date: 08/24/2005.

Accession Number: 20050825-0235.

Comment Date: 5 p.m. eastern time on Wednesday, September 14, 2005.

Docket Number: ER05-1387-000.

Applicant: Southern California Edison Company.

Description: Southern California Edison Company submits revised rate sheets to the Amended and Restated Ormond Beach Generating Station Radial Lines Agreement between Southern California Edison Company and Reliant Energy Ormond Beach, L.L.C.

Filed Date: 08/24/2005.

Accession Number: 20050825-0229.

Comment Date: 5 p.m. eastern time on Wednesday, September 14, 2005.

Docket Number: ER05-1389-000.

Applicant: San Juan Mesa Wind Project, LLC.

Description: San Juan Mesa Wind Project, LLC submits application for market-based rate authorization, certain waivers and blanket authorizations and request for expedited action.

Filed Date: 08/24/2005.

Accession Number: 20050826-0193.

Comment Date: 5 p.m. eastern time on Wednesday, September 14, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Linda Mitry,
Deputy Secretary.

[FR Doc. E5-4809 Filed 9-1-05; 8:45 am]

BILLING CODE 6717-01-P